DEPARTMENT OF DEFENSE

Department of the Navy

Notice of Meeting of the Board of Visitors of Marine Corps University

AGENCY: Department of the Navy, DoD.

ACTION: Notice.

SUMMARY: The Board of Visitors of the Marine Corps University (BOV MCU) will meet to review, develop and provide recommendations on all aspects of the academic and administrative policies of the University; examine all aspects of professional military education operations; and provide such oversight and advice, as is necessary, to facilitate high educational standards and cost effective operations. The Board will be focusing primarily on the growth of Marine Corps University with a view to the future. All sessions of the meeting will be open to the public.

DATES: The meeting will be held on Thursday, November 13, 2008 from 8 a.m. to 4 p.m. and on Friday, November 14, 2008 from 8 a.m. to 11 a.m.

ADDRESSES: The meeting will be held at Marine Corps University's Gray Research Center. The address is: 2040 Broadway Street, Quantico, Virginia 22134.

FOR FURTHER INFORMATION CONTACT: Mary Lanzillotta, Executive Secretary, Marine Corps University Board of Visitors, 2076 South Street, Quantico, Virginia 22134, telephone: 703-784-4037.

Dated: October 3, 2008.
T. M. Cruz,
Lieutenant Commander, Judge Advocate General's Corps, U.S. Navy, Federal Register Liaison Officer.

[FR Doc. E8-24247 Filed 10-10-08; 8:45 am]

BILLING CODE 3810-FF-P